DEPARTMENT OF ENERGY

Federal Energy Regulatory Commission

[Docket Nos. EC06-28-000, et al.]

The Potomac Edison Company and Allegheny Energy Service Corporation, et al.; Electric Rate and Corporate Filings

November 21, 2005.

The following filings have been made with the Commission. The filings are listed in ascending order within each docket classification.

1. The Potomac Edison Company and Allegheny Energy Service Corporation; Allegheny Energy Service Corporation; The Potomac Edison Company; and Virginia Electric and Power Company

[Docket Nos. EC06-28-000; ER06-202-000; ER06-203-000; ER06-204-000]

Take notice that on November 14, 2005, The Potomac Edison Company (Potomac Edison) and Allegheny Energy Service Corporation (AESC) (jointly referred to as Applicants), jointly tendered for filing an application under section 203 of the Federal Power Act for Commission authorization for Potomac Edison to assign its interest in the Borderline Interchange Agreement between The Potomac Edison Company of Virginia and Virginia Electric and Power Company (Borderline Interchange Agreement) to its affiliate, AESC as agent for Potomac Edison, Monongahela Power Company (Mon Power) and West Penn Power Company (West Penn). Mon Power and West Pennstate that they are affiliates of AESC and Potomac Edison. Also, pursuant to section 205 of the FPA, AESC tendered for filing the Borderline Interchange Agreement designated as an AESC rate schedule and Potomac Edison tendered for filing cancellation documents to terminate its Borderline Interchange Agreement. Virginia Electric and Power Company, d/b/a Dominion Virginia Power, tendered for filing its revised version of the Borderline Interchange Agreement reflecting the assignment.

The Applicants request that the Commission accept the Application and authorize the proposed assignment within sixty days of the date of filing, which is January 13, 2006. AESC requests that its Borderline Interchange Agreement become effective on January 13, 2006. Potomac Edison requests that the cancellation documents become effective on January 13, 2006. Dominion Virginia Power requests that its revised version of the Borderline Interchange Agreement become effective on January 13, 2006.

Applicants state that copies of the filing were served upon the Virginia State Corporation Commission and Virginia Electric and Power Company.

Comment Date: 5 p.m. Eastern Time on December 5, 2005.

2. Rugby Wind, LLC

[Docket No. EG06-7-000]

On November 14, 2005, Rugby Wind, LLC (Rugby Wind), located at 1125 NW Couch, Suite 700, Portland, OR 97209, filed with the Federal Energy Regulatory Commission an application for determination of exempt wholesale generator status pursuant to part 365 of the Commission's regulations.

Rugby Wind, states that it is an Oregon limited liability company, will be engaged directly and exclusively in the business of owning all or part of one or more eligible facilities, and selling electric energy at wholesale. Rugby Wind further states that it is developing an approximately 150 megawatt wind power generation facility to be located in Pierce County, North Dakota. Rugby Wind explains that the Project will be an eligible facility pursuant to section 32(a)(2) of PUHCA.

Rugby Wind states it has served a copy of the filing on the Securities and Exchange Commission, the California Public Utilities Commission, the Oregon Public Utilities Commission, the Washington Utilities and Transportation Commission, the Utah Public Service Commission, the Idaho Public Utilities Commission, and the Wyoming Public Service Commission.

Comment Date: 5 p.m. eastern time on December 5, 2005.

3. Manzana Wind, LLC

[Docket No. EG06-8-000]

On November 14, 2005, Manzana Wind, LLC (Manzana), located at 1125 NW Couch, Suite 700, Portland, OR 97209, filed with the Federal Energy Regulatory Commission an application for determination of exempt wholesale generator status pursuant to part 365 of the Commission's regulations.

Manzana, states that it is an Oregon limited liability company, will be engaged directly and exclusively in the business of owning all or part of one or more eligible facilities, and selling electric energy at wholesale. Manzana further states it is developing an approximately 300 megawatt wind power generation facility to be located in Kern County, California. Manzana explains that the project will be an eligible facility pursuant to section 32(a)(2) of PUHCA.

Manzana states it has served a copy of the filing on the Securities and Exchange Commission, the California Public Utilities Commission, the Oregon Public Utilities Commission, the Washington Utilities and Transportation Commission, the Utah Public Service Commission, the Idaho Public Utilities Commission, and the Wyoming Public Service Commission.

Comment Date: 5 p.m. eastern time on December 5, 2005.

4. Klondike Wind Power III, LLC

[Docket No. EG06-9-000]

On November 14, 2005, Klondike Wind Power III, LLC (Klondike III), located at 1125 NW Couch, Suite 700, Portland, OR 97209, filed with the Federal Energy Regulatory Commission an application for determination of exempt wholesale generator status pursuant to Part 365 of the Commission's regulations.

Klondike III, states that it is an Oregon limited liability company, will be engaged directly and exclusively in the business of owning all or part of one or more eligible facilities, and selling electric energy at wholesale. Klondike III is developing an approximately 300 megawatt wind power generation facility to be located in Sherman County, Oregon. Klondike III further states that the Project will be an eligible facility pursuant to section 32(a)(2) of PUHCA.

Klondike III states that it has served a copy of the filing on the Securities and Exchange Commission, the California Public Utilities Commission, the Oregon Public Utilities Commission, the Washington Utilities and Transportation Commission, the Utah Public Service Commission, the Idaho Public Utilities Commission, and the Wyoming Public Service Commission.

Comment Date: 5 p.m. eastern time on December 5, 2005.

Standard Paragraph: Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-6709 Filed 11-29-05; 8:45 am]

BILLING CODE 6717-01-P